DEPARTMENT OF HOMELAND SECURITY

Coast Guard

33 CFR Part 117

[Docket No. USCG-2009-0351]

Drawbridge Operation Regulations; Passaic River, Harrison, NJ, Maintenance

AGENCY: Coast Guard, DHS.

ACTION: Notice of temporary deviation from regulations.

SUMMARY: The Commander, First Coast Guard District, has issued a temporary deviation from the regulation governing the operation of the Amtrak Dock Bridge across the Passaic River, mile 5.0, at Harrison, New Jersey. This deviation will allow the bridge to remain closed all day on Saturday and Sunday for nine weekends to facilitate track repairs.

DATES: This deviation is effective from May 30, 2009 through August 2, 2009.

ADDRESSES: Documents mentioned in this preamble as being available in the docket are part of docket USCG-2009-0351 and are available Online at http://www.regulations.gov. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, telephone (212) 668-7165, e-mail joe.arca@uscg.mil. If you have questions on viewing the docket, call Renee V. Wright, Program Manager, Docket Operations, telephone 202-366-9826.

SUPPLEMENTARY INFORMATION: The Amtrak Dock Bridge at mile 5.0, across the Passaic River, at Harrison New Jersey, has a vertical clearance in the closed position of 35 feet at mean high water and 40 feet at mean low water.

The owner of the bridge, the Port Authority of New York and New Jersey, requested this temporary deviation to facilitate track repairs to be conducted on nine weekends at the bridge. The bridge can not open during the prosecution of these repairs and the work must be conducted on weekends because during week days the frequency of rail traffic crossings is prohibitive. Vessels able to pass under the closed draw may do so at all times.

The Amtrak Dock Bridge has not received a request to open for vessel traffic since 2004.

Under this temporary deviation the Amtrak Dock Bridge may remain in the closed position all day on Saturday and Sunday on the following weekends: May 30 and 31; June 6 and 7; June 13 and 14; June 20 and 21; June 27 and 28; July 11 and 12; July 18 and 19; July 25 and 26, and August 1 and 2, 2009.

In accordance with 33 CFR 117.35(e), the bridge must return to its regular operating schedule immediately at the end of the designated time period. This deviation from the operating regulations is authorized under 33 CFR 117.35.

Dated: May 13, 2009.
Gary Kassof,
Bridge Program Manager, First Coast Guard District.

[FR Doc. E9-12383 Filed 5-27-09; 8:45 am]

BILLING CODE 4910-15-P